DEPARTMENT OF ENERGY

Federal Energy Regulatory Commission

[Project No. 2101-084; Project No. 2155-024]

Sacramento Municipal Utility District, California; Pacific Gas & Electric Company, California; Notice of Intent To Hold a Public Meeting To Discuss the Draft Environmental Impact Statement for the Upper American River Hydroelectric Projects

October 15, 2007.

On September 21, 2007, the Commission issued the Upper American River Hydroelectric Project and Chili Bar Hydroelectric Project Draft Environmental Impact Statement (draft EIS) and mailed it to resource and land management agencies, interested organizations, and individuals.

The Environmental Protection Agency noticed the draft EIS in the Federal Register on September 28, 2007 (72 FR 55201); comments are due November 13, 2007. The draft EIS evaluates the environmental consequences and developmental benefits of issuing new licenses for operating and maintaining the Upper American River Project and the Chili Bar Project, which are located in El Dorado and Sacramento Counties, California. Besides evaluating the projects as they now operate, the draft EIS evaluates the projects with the Settlement Agreement and with staff-recommended measures.

The public meeting, which will be recorded by an official stenographer, is scheduled as follows.

Date: Monday, November 5, 2007.

Time: 7-9:30 p.m. (PST).

Place: Best Western Placerville Inn, 6850 Green Leaf Drive, Placerville, CA, 95667-6228, Phone: 530-622-9100.

At the meeting, resource agency personnel and other interested persons will have the opportunity to provide oral and written comments and recommendations regarding the draft EIS for the Commission's public record.

For further information, contact James Fargo at (202) 502-6095 or at james.fargo@ferc.gov.

Kimberly D. Bose,
Secretary.

[FR Doc. E7-20878 Filed 10-23-07; 8:45 am]

BILLING CODE 6717-01-P